DEPARTMENT OF THE INTERIOR

Bureau of Land Management

[NV-930, 1430-EU; N-65600]

Notice of Realty Action: Segregation of Public Land.

AGENCY: Bureau of Land Management, Interior.

ACTION: Segregation of Public Land in Orovada, Humboldt County, Nevada.

SUMMARY: Upon publication of this Notice in the Federal Register, the below described land will be segregated from all other forms of appropriation under the public land laws, including the general mining laws, and leasing under the mineral leasing laws.

Authority: Pursuant to section 203 of the Federal Land Policy and Management Act of October 21, 1976 (90 Stat. 2750, 43 U.S.C. 1713).

Location: Mount Diablo Meridian

T. 44 N., R. 37 E., section 29 N½NE¼; E½NW¼;

T. 44 N., R. 37 E., section 32 E½

T. 43 N., R. 37 E., section 4 Lots 3, 4; S½NW¼, SE¼; S½SW¼;

T. 43 N., R. 37 E., section 5 Lots 1,2,3; S½NE¼, N½SE¼, SE¼SE¼

1200.43 acres total more or less.

This segregation shall terminate upon issuance of a patent or other document of conveyance or 270 days from the date of this publication, whichever occurs first. Upon publication of this notice and until completion of the proposed sale, the BLM shall no longer take, accept, consider as filed and shall not be returned to the applicant, any subsequent applications affecting the parcel, if the notice segregates the lands from the use applied for in the application. The segregation is consistent with current Bureau planning for this area.

FOR FURTHER INFORMATION CONTACT: M. Lynn Trost, Realty Specialist, Bureau of Land Management, at 5100 E. Winnemucca Blvd., Winnemucca, NV 89445, or telephone (775) 623-1500.

Dated: September 17, 2002.
Terry A. Reed,
Winnemucca Field Manager.

[FR Doc. 02-24400 Filed 9-25-02; 8:45 am]

BILLING CODE 4310-HC-P